FEDERAL COMMUNICATIONS COMMISSION

47 CFR Part 52

[WC Docket No. 18-336; DA 25-148; FR ID 281931]

Implementation of the National Suicide Hotline Act of 2018

AGENCY: Federal Communications Commission.

ACTION: Proposed rule.

SUMMARY: In this document, the Wireline Competition Bureau (Bureau) of the Federal Communications Commission (FCC or Commission) seeks targeted comment on potential privacy issues related to proposed rules that would require covered text providers to support georouting to ensure that the 988 Suicide & Crisis Lifeline (988 Lifeline or Lifeline) may route covered 988 text messages to appropriate local crisis centers.

DATES: Comments are due on or before April 3, 2025, and reply comments are due on or before April 18, 2025.

ADDRESSES: You may submit comments, identified by WC Docket No. 18-336, by any of the following methods:

• Federal Communications Commission's website: https://www.fcc.gov/ecfs. Follow the instructions for submitting comments.

• People with Disabilities: Contact the FCC to request reasonable accommodations (accessible format documents, sign language interpreters, CART, etc.) by email: FCC504@fcc.gov or phone: 202-418-0530.

For detailed instructions for submitting comments and additional information on the rulemaking process, see the SUPPLEMENTARY INFORMATION section of this document.

FOR FURTHER INFORMATION CONTACT: Merry Wulff, Attorney Advisor, Competition Policy Division, Wireline Competition Bureau, at Merry.Wulff@fcc.gov or at (202) 418-1084.

SUPPLEMENTARY INFORMATION: This is a summary of the Commission's Public Notice, document DA 25-148, released on February 19, 2025, in WC Docket No. 18-336.

The full text of the document is available on the Commission's website at https://docs.fcc.gov/public/attachments/DA-25-148A1.pdf.

Comment Filing Procedures

Interested parties may file comments and reply comments on or before the dates indicated on the first page of this document. Comments should refer to WC Docket No. 18-336. Comments may be filed using the Commission's Electronic Comment Filing System (ECFS).

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

Ex Parte Rules

The proceeding this Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Analysis

The Implementation of the National Suicide Hotline Improvement Act of 2018, Third Further Notice of Proposed Rulemaking (Third FNPRM), 89 FR 91636 (Nov. 20, 2024), included an Initial Regulatory Flexibility Analysis (IRFA) pursuant to 5 U.S.C. 603, exploring the potential impact on small entities of the Commission's proposals. The Bureau invites parties to file comments on the IRFA in light of this request for supplemental comments.

Paperwork Reduction Act

This document does not contain proposed new or modified information collection requirements subject to the Paperwork Reduction Act of 1995 (Pub. L. 104-13) beyond any already proposed in the Third FNPRM. Therefore, it does not contain any new or modified information collection burden for small business concerns with fewer than 25 employees, pursuant to the Small Business Paperwork Relief Act of 2002 (Pub. L. 107-198) see 44 U.S.C. 3506(c)(4), beyond any already proposed in the Third FNPRM.

Providing Accountability Through Transparency Act

The Providing Accountability Through Transparency Act (Pub. L. 118-9) requires each agency, in providing notice of a rulemaking, to post online a brief plain-language summary of the proposed rule. The required summary of the document is available at https://www.fcc.gov/proposed-rulemakings.

Synopsis

In document DA 25-148, the Bureau seeks additional, targeted comment on potential privacy issues involved in georouting text-to-988 pursuant to the Federal Communications Commission's (FCC or Commission) Implementation of the National Suicide Hotline Act of 2018, Third Further Notice of Proposed Rulemaking (Third FNPRM), 89 FR 91636 (Nov. 20, 2024). The comments that the Commission has received in response to the Third FNPRM have raised privacy as an important factor, and we are providing an opportunity for additional comment to obtain a more comprehensive record.

The Commission has long recognized the importance of protecting the privacy interests of Americans seeking help from the 988 Lifeline. In recent years, the Commission has sought comment on privacy with respect to georouting and has taken action to protect the privacy of voice callers to 988. We continue this effort by seeking further comment on georouting text-to-988 implications, potential risks, and proposed safeguards to bolster the privacy and confidentiality of individuals texting the 988 Lifeline.

Since the Commission designated 988 as the easy-to-remember, three digit code for the 988 Lifeline, the Commission has engaged with consumer advocacy groups, wireless providers, partner agencies, and other industry stakeholders to balance privacy concerns while advancing the accessibility and effectiveness of 988 Lifeline. We understand the sensitive nature of individuals' contacts with the 988 Lifeline and have worked to prevent the erosion of privacy protections or expectations of confidentiality. In response to privacy concerns surrounding the use of precise location information and the chilling effect those concerns may have on potential 988 Lifeline users, the Commission sought alternative solutions to enhance the 988 Lifeline while protecting user privacy and confidence in the program. Commission staff, the U.S. Department of Health and Human Services' (HHS) Substance Abuse and Mental Health Services Administration (SAMHSA), Vibrant Emotional Health (Vibrant or Lifeline Administrator), nationwide wireless providers, and other industry stakeholders, developed, tested, and implemented georouting solutions to direct 988 calls based on a geographic location for the origin of the call without transmitting information about the caller's precise location. Based on this collaborative effort and comments received in response to the Implementation of the National Suicide Hotline Act of 2018, Second Further Notice of Proposed Rulemaking, 89 FR 46340 (May 29, 2024), the Commission adopted the definition of “georouting data” to mean “location data generated from cell-based location technology that is aggregated to a level that will not identify the location of the cell site or base station receiving the 988 call or otherwise identify the precise location of the handset.” This definition enables covered entities to better route calls from 988 Lifeline users while mitigating potential privacy risks, as it does not require the collection and transmission of precise location data.

As for voice calls, the 988 Lifeline Administrator, mental health advocates, providers, and other industry stakeholders continue to actively engage in voluntary collaborative efforts to identify technical solutions that leverage the ability to route 988 texts while maintaining consumer privacy. The Commission continues to prioritize consumer privacy and confidentiality while supporting industry collaboration as it develops solutions to improve upon the 988 Lifeline. As such, we invite stakeholders to update the record after reviewing the specific proposals, underlying analysis, and questions contained in the Third FNPRM, as well as the existing record in this proceeding.

Proposed Text-to-988 Georouting Solutions. Commenters put forward several text-to-988 georouting solutions in response to the Third FNPRM. We first seek comment on any potential privacy implications raised by these solutions. CX360, for example, proposes a text-to-988 georouting solution modeled after voice-to-988 georouting solutions, in which Commercial Mobile Radio Service (CMRS) providers incorporate location data aggregated using Federal Information Processing Series (FIPS) code boundaries into their data flows. The FIPS codes are maintained and assigned by the Census Bureau to identify geographic areas. The CMRS providers then transmit the text message to a Short Message Service (SMS) aggregator, which routes the text to an SMS Gateway “via a secured communication channel.” In contrast, Intrado Life & Safety proposes a text-to-988 georouting solution based on text-to-911 infrastructure that utilizes Session Initiation Protocol (SIP), Message Session Relay Protocol (MSRP), and HTTP-Enabled Location Delivery (HELD) protocol, and relies on Text Control Centers (TCCs) to act as intermediaries between covered text providers and the Lifeline Administrator. SIP is a protocol that defines a method of establishing multimedia sessions over the internet. MSRP is a standardized mechanism for exchanging instant messages using SIP where a server relays messages between user agents. HELD protocol can be used to acquire location information within an access network from a Location Information Server. A TCC is a controlling functional element specified in a relevant standard for text-to-911. The TCC has the responsibility to “(1) convert various protocols and act as a gateway; (2) request location that may be used for routing; (3) request routing instructions; and (4) initiate a dialogue with the [Public Safety Answering Point (PSAP)] through the appropriate interworking function of the TCC. When the TCC receives an initial text message, it obtains location from the [location server]. It then uses that location to obtain routing instructions from the [routing server]. Then, the TCC converts the text message to an appropriate protocol and initiates a dialogue with the PSAP (via the emergency services network) through the appropriate interworking function of the TCC.”

We invite commenters to provide additional details on how each of the proposed text-to-988 georouting solutions transmit location data throughout the text routing process and to comment on any potential privacy implications, protections, and considerations. Are there specific privacy, security, or confidentiality considerations for text-to-988 georouting solutions that differ from voice-to-988? If so, is there a particular point in the text flow where such concerns arise? For example, CX360 asserts that incorporating aggregated location data early in the data flow will help prevent the transmission of sensitive location data to downstream parties. The record would benefit to the extent that commenters can depict points of potential concern in a text flow in a diagram or other visual description. Should the Commission consider additional requirements for text-to-988 georouting to protect the privacy interests of help-seekers? Are the proposed text-to-988 georouting solutions more prone to errors than voice-to-988 georouting solutions? If so, what privacy implications, if any, are raised by such errors?

Current State of Text-to-988 Georouting Solutions. Commenters responding to the Third FNPRM report that voluntary efforts to identify and develop text-to-988 georouting solutions are ongoing and that a pilot program or testing will occur in 2025. In response to this Public Notice, we ask for updates on the status and progress of this work, as well as additional data, documents, and other information that provide details about the georouting solutions under development and any privacy implications. For instance, to what extent do the text-to-988 georouting solutions under development align with or differ from the georouting solutions proposed in the record? Do the text-to-988 georouting solutions under development contemplate different methods of identifying a texter's location to generate georouting data, such as application-level or network-based protocols? What is the current viability of the georouting solutions in terms of cost and technical feasibility, particularly for small providers, and are there any additional privacy protections in place that the Commission should consider?

Role of Third Parties. To effectively analyze any text-to-988 georouting solution, the Commission needs to understand the privacy implications related to the role of CMRS providers, other covered text providers, SMS aggregators, TCCs, the Lifeline Administrator, and any other vendors or entities necessary for the solution. The record developed in response to the Third FNPRM indicates that text-to-988 georouting solutions may require the involvement of more entities than voice-to-988 georouting solutions. Thus, we ask that commenters identify with specificity all entities necessary to implement any proposed text-to-988 georouting solutions, including their roles throughout the data flow.

We also seek additional comment on the extent to which location data is shared between CMRS providers and other entities within the routing process for any proposed text-to-988 georouting solutions. What degree or resolution of location data must be shared with each specific entity, for what purposes, and at what point in the data flow? As discussed above, CX360 proposes a georouting solution that relies on an SMS aggregator, whereas Intrado Life & Safety proposes to utilize TCCs. We seek further comment on these proposals, including any potential privacy implications. For instance, what, if anything, about the 988 texter could be inferred from data shared within the routing process? How do SMS aggregators and TCCs use, protect, and disclose location data? What security processes and requirements are in place, or should be in place, to ensure that location data is secured to protect privacy throughout the data flow? What entity operates and maintains responsibility over any necessary communication channels?

Granularity of Georouting Data. We seek further comment on the granularity of location data necessary for text-to-988 georouting solutions. The Commission's voice-to-988 georouting rules require CMRS providers to aggregate location data generated from cell-based technology to a level that will not identify the location of the cell site or base station receiving the 988 voice call or otherwise identify the precise location of the caller's handset. As discussed above, in adopting the definition of “georouting data” that contains these requirements, the Commission balanced the importance of maintaining the paramount privacy interests of 988 callers with the need to expeditiously improve the routing of wireless calls to the Lifeline. In the Third FNPRM, the Commission proposed to adopt the same definition of “georouting data” for the text-to-988 georouting rules and sought comment on whether a different definition was more appropriate.

Commenters responding to the Third FNPRM indicate that additional development and evaluation may be necessary to determine the appropriate level of granularity of location data for text-to-988 georouting solutions to align with privacy expectations. The Lifeline Administrator also states that georouting solutions for 988 text messages will likely rely on broader geographic data than 988 voice calls. Given these additional details and the fact that approximately 77 crisis centers currently support 988 text messages, we seek further comment on the necessary resolution of location data for text-to-988 georouting solutions. Are there different privacy considerations related to the granularity of location data for text-to-988 georouting solutions? For example, as discussed above, CX360 proposes a georouting solution that incorporates county-level FIPS codes into text data flows, either in a message header or by “some other appropriate means.” Are county-level FIPS codes sufficiently generalized to protect texters' privacy for text-to-988 georouting? Would less granular geographic boundaries be sufficient to connect texters with local resources? If so, what geographic boundary should the Commission consider, and is there a level that would be too broad?

In the Third FNPRM, the Commission also sought comment on whether the work performed by CMRS providers to deploy text-to-911 could be leveraged for text-to-988 georouting solutions. Intrado Life & Safety proposes a text-to-988 georouting solution that leverages text-to-911 infrastructure and identifies two potential methods of obscuring more precise location data to protect the privacy of texters. The first method, referred to as the “dither option,” involves “stripping digits” from the latitude and longitude of a texter's location, while the second method requires programming TCCs to convert latitude and longitude to a FIPS code. We seek comment on this proposal. How effective are these methods of obscuring location data, and do they adequately protect the privacy of 988 texters? Can precise location information still be inferred, and what mechanisms are or should be in place to prevent more precise location data from being accessed, disclosed, or misused throughout the data flow?

Privacy and Data Protection Protocols. We also seek additional comment on any data handling protocols and policies that are in place or should be in place to protect the privacy and confidentiality of 988 texters, including details regarding data storage, retention, and access. Commenters responding to the Third FNPRM emphasize the importance of maintaining texters' privacy to ensure trust in the 988 Lifeline. We invite commenters to provide further detail regarding existing or proposed administrative, technical, and procedural safeguards that help maintain texters' privacy throughout the routing process. For instance, what measures, if any, are in place to encrypt, anonymize, and secure location data, and how do any such measures help maintain the privacy of 988 texters? How will CMRS providers, the Lifeline Administrator, their vendors, and any other entities involved in the text flow ensure that location data cannot be disclosed or used for extraneous or unrelated commercial purposes? Do entities involved in the text flow have safeguards against monetization practices or unauthorized access by malicious actors, and if so, what are they?

We seek to ensure that our actions with respect to text-to-988 georouting maintain the confidence of individuals in crisis that their information will remain confidential when communicating with crisis counselors. Anything less may have a chilling effect on the lifesaving crisis and suicide prevention services offered by 988 Lifeline. Are there additional privacy measures we should consider to prevent unintended chilling effects as the Commission continues to enhance 988 Lifeline through georouting capabilities? We seek comment on whether georouting for text-to-988 may discourage individuals from seeking assistance from the 988 Lifeline and if there are solutions that would minimize any such effects. Specifically, we seek comment on the CPAC Foundation's recommendation to establish an informed consent process for 988 Lifeline users wherein the user could determine how much information they would like to disclose. Could a consent mechanism be developed as part of the georouting solutions described above? Could it be incorporated into any text routing protocol? What mechanisms are in place, or would need to be in place, to ensure meaningful consent or understanding of georouting data use? What are the advantages and disadvantages of establishing an informed consent process? Is there a way to increase transparency about what data, if any, is collected? Are there any other issues that the Commission should consider in its efforts to ensure that the 988 Lifeline has the necessary information to connect help-seekers with local crisis centers while maintaining 988 texters' privacy and confidentiality?

Federal Communications Commission,
Trent Harkrader,
Chief, Wireline Competition Bureau.

[FR Doc. 2025-03399 Filed 3-3-25; 8:45 am]

BILLING CODE 6712-01-P